NATIONAL ARCHIVES AND RECORDS ADMINISTRATION

[NARA 2014-026]

Creation of Freedom of Information Act Advisory Committee

AGENCY: National Archives and Records Administration.

ACTION: Notice of charter establishment.

SUMMARY: This notice is published in accordance with the provisions of section 9(a)(2) of the Federal Advisory Committee Act (Pub. L. 92-463, 5 U.S.C., App.) and advises of the creation of the National Archives and Records Administration's (NARA) Freedom of Information Act (FOIA) Advisory Committee.

FOR FURTHER INFORMATION CONTACT: Patrice Murray, 301-837-2001.

SUPPLEMENTARY INFORMATION: NARA has determined that the creation of the FOIA Advisory Committee is in the public interest due to the expertise and valuable advice the Committee members will provide on issues related to improving the administration of the Freedom of Information Act. NARA will share with Executive Branch agencies and the public the Committee's recommendations on issues related to FOIA. NARA's Committee Management Officer (CMO) is Patrice Murray.

Dated: April 29, 2014.
Patrice Little Murray,
Committee Management Officer.

[FR Doc. 2014-10225 Filed 5-2-14; 8:45 am]

BILLING CODE 7515-01-P